FEDERAL COMMUNICATIONS COMMISSION

47 CFR Part 101

[WT Docket No. 10-153; Report 2964]

Petition for Reconsideration of Action in Rulemaking Proceeding

AGENCY: Federal Communication Commission.

ACTION: Petition for reconsideration.

SUMMARY: In this document, a Petition for Reconsideration (Petition) has been filed in the Commission's rulemaking proceeding by Michael Mulcay, Chairman of Wireless Strategies, Inc., on the behalf of Wireless Strategies.

DATES: Oppositions to the Petition must be file on or before December 5, 2012. Replies to an opposition must be filed on or before December 17, 2012.

ADDRESSES: Submit oppositions to the Petition or replies to an opposition to Federal Communications Commission, 445 12th Street SW., Washington, DC 20554.

FOR FURTHER INFORMATION CONTACT: John Schauble, Wireless Telecommunications Bureau, 202-418-0797.

SUPPLEMENTARY INFORMATION: This is a summary of Commission's document, Report No. 2964, released October 22, 2012. The full text of this document is available for viewing and copying in Room CY-B402, 445 12th Street SW., Washington, DC or may be purchased from the Commission's copy contractor, Best Copy and Printing, Inc. (BCPI) (1-800-378-3160). The Commission will not send a copy of this Notice pursuant to the Congressional Review Act, 5 U.S.C. 801(a)(1)(A), because this Notice does not have an impact on any rules of particular applicability.

Subject: Amendment of Part 101 of the Commission's Rules to Facilitate the Use of Microwave for Wireless Backhaul and Other Uses and to Provide Additional Flexibility to Broadcast Auxiliary Services and Operational Fixed Microwave Licenses, Petition for Reconsideration of Wireless Strategies, Inc., published at 77 FR 54421, September 5, 2012, and at 77 FR 54511, September 5, 2012, and published pursuant to 47 CFR 1.429(e) of the Commission's rules. See also 47 CFR 1.4(b)(1) of the Commission's rules.

Number of Petitions Filed: 1.

Federal Communications Commission.
Gloria J. Miles,
Federal Register Liaison, Office of the Secretary, Office of Managing Director.

[FR Doc. 2012-28110 Filed 11-19-12; 8:45 am]

BILLING CODE 6712-01-P